DEPARTMENT OF LABOR

Employment and Training Administration

20 CFR Part 656

[Docket No. ETA-2023-0006]

RIN 1205-AC16

Labor Certification for Permanent Employment of Foreign Workers in the United States; Modernizing Schedule A To Include Consideration of Additional Occupations in Science, Technology, Engineering, and Mathematics (STEM) and Non-STEM Occupations

AGENCY: Employment and Training Administration (ETA), Labor.

ACTION: Request for information; extension of public comment period.

SUMMARY: On December 21, 2023, ETA published a Request for Information (RFI), titled “Labor Certification for Permanent Employment of Foreign Workers in the United States; Modernizing Schedule A To Include Consideration of Additional Occupations in Science, Technology, Engineering, and Mathematics (STEM) and Non-STEM Occupations.” The period for submitting public comments is being extended to May 13, 2024, to allow stakeholders additional time to comment.

DATES: The comment period for the RFI published in the Federal Register on December 21, 2023 (88 FR 88290), is extended. Submit comments to the RFI and other information by May 13, 2024.

ADDRESSES: You may submit written comments electronically by the following method:

• Federal eRulemaking Portal: https://www.regulations.gov. Follow the instructions on the website for submitting comments.

• Instructions: Include the docket number ETA-2023-0006 in your comments. All comments received will be posted without change to https://www.regulations.gov. Please do not include any personally identifiable or confidential business information you do not want publicly disclosed.

FOR FURTHER INFORMATION CONTACT: Brian Pasternak, Administrator, Office of Foreign Labor Certification, Employment and Training Administration, Department of Labor, 200 Constitution Avenue NW, N-5311, Washington, DC 20210; Telephone (202) 513-7350 (this is not a toll-free number). For persons with a hearing or speech disability who need assistance to use the telephone system, please dial 711 to access telecommunications relay services.

SUPPLEMENTARY INFORMATION: On December 21, 2023, ETA published an RFI titled, “Labor Certification for Permanent Employment of Foreign Workers in the United States; Modernizing Schedule A To Include Consideration of Additional Occupations in Science, Technology, Engineering, and Mathematics (STEM) and Non-STEM Occupations.” 88 FR 88290. In the RFI, ETA invited public comment on “evaluating the utility of expanding Schedule A to include STEM occupations, the Department invites the public to provide input on the appropriate data sources and methods for determining whether labor shortages exist, whether Schedule A should be used to alleviate any labor shortages in STEM occupations should it be determined from these data sources and methods that such shortages exist, and if so, how the Department could establish a reliable, objective, and transparent methodology for identifying STEM occupations that are experiencing labor shortages.” The RFI further invited the public to answer a number of questions in their responses that would assist ETA in making this evaluation.

The public comment period for this RFI was to conclude on February 20, 2024, 60 days after publication of the RFI. To date, ETA has received a very limited number of comments, many of which do not provide the information requested or address the questions raised in the RFI. In addition, ETA received a request from a stakeholder for an extension of the public comment period (Document ID ETA-2023-0006-0035). ETA agrees to an extension of the public comment period and believes that an extension until May 13, 2024, is sufficient and appropriate to balance the agency's need for timely and robust input and to satisfy the stakeholder's request. Accordingly, the comment period for this RFI is being extended and will now conclude on May 13, 2024.

Brent Parton,
Principal Deputy Assistant Secretary for Employment and Training, Labor.

[FR Doc. 2024-03187 Filed 2-14-24; 8:45 am]

BILLING CODE 4510-FP-P